DEPARTMENT OF HOMELAND SECURITY

Federal Emergency Management Agency

[Docket ID: FEMA-2017-0009; OMB No. 1660-0062]

Agency Information Collection Activities: Submission for OMB Review; Comment Request; State/Local/Tribal Hazard Mitigation Plans

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 3, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov. Or, Kathleen Smith, Chief, Planning and Safety Branch; Planning, Safety and Building Science Division; Risk Management Directorate; Federal Insurance and Mitigation Administration; FEMA (202) 646-4372.

SUPPLEMENTARY INFORMATION: This information collection previously published in the Federal Register on March 7, 2017 at 82 FR 12823 with a 60 day public comment period. No comments were received. The purpose of this notice is to notify the public that FEMA will submit the information collection abstracted below to the Office of Management and Budget for review and clearance.

Collection of Information

Title: State/Local/Tribal Hazard Mitigation Plans.

Type of information collection: Revision of a currently approved information collection.

OMB Number: 1660-0062.

Form Titles and Numbers: Not applicable.

Abstract: In order to be eligible for certain types of Federal Emergency Management Agency (FEMA) non-emergency assistance, State, local, and Indian Tribal governments are required to have a current FEMA-approved hazard mitigation plan that meets the criteria established in 44 CFR part 201.

Affected Public: State, local or Tribal government.

Estimated Number of Respondents: 56.

Estimated Total Annual Burden Hours: 227,366 hours.

Estimated Cost: The estimated annual cost to respondents for the hour burden is $11,279,627. The estimated annual capital start-up cost to respondents is $11,901,120. The estimated annual operations and maintenance cost to respondents is $16,540,260. The estimated annual non-labor cost to respondents is $2,756,710. The estimated cost to the Federal Government is $1,705,242.

Dated: May 22, 2017.
Richard Mattison,
Records Management Program Chief, Mission Support, Federal Emergency Management Agency, Department of Homeland Security.

[FR Doc. 2017-11087 Filed 5-31-17; 8:45 am]

BILLING CODE 9111-52-P